DEPARTMENT OF COMMERCE

International Trade Administration

Calendar of Upcoming Trade Missions

AGENCY: International Trade Administration, Department of Commerce

ACTION: Notice

SUPPLEMENTARY INFORMATION: The United States Department of Commerce, International Trade Administration (ITA) is announcing eight upcoming trade missions that will be recruited, organized and implemented by ITA. These missions are:

• Executive-Led Wastewater Treatment Business Development Mission to China, June 11-17, 2017

• Paint & Coatings Materials Suppliers Trade Mission to Mexico City, June 18-20, 2017

• U.S. Healthcare Trade Mission to Africa, October 22-27, 2017

• Cyber Security Trade Mission to Canada, September 11-14, 2017

• Smart Cities Trade Mission to Poland and The Czech Republic, September 10-15, 2017

• Sustainable Building and Construction Trade Mission to Mexico City (Optional Stop in Guadalajara), October 9-13, 2017

• Trade Mission to Romania, Bulgaria, Croatia, Serbia and Greece in Conjunction with Trade Winds—Southeastern Europe Business Forum, October 16-24, 2017

• Renewable Energy Integration Trade Mission to Canada, October 30-November 2, 2017

A summary of each mission is found below. Application information and more detailed mission information, including the commercial setting and sector information, can be found at the trade mission Web site: http://export.gov/trademissions.

For each mission, recruitment will be conducted in an open and public manner, including publication in the Federal Register, posting on the Commerce Department trade mission calendar (http://export.gov/trademissions) and other Internet Web sites, press releases to general and trade media, direct mail, broadcast fax, notices by industry trade associations and other multiplier groups, and publicity at industry meetings, symposia, conferences, and trade shows.

The following Conditions for Participation will be used for each mission: Applicants must submit a completed and signed mission application and supplemental application materials, including adequate information on their products and/or services, primary market objectives, and goals for participation. If the Department of Commerce receives an incomplete application, the Department may either: Reject the application, request additional information/clarification, or take the lack of information into account when evaluating the application. If the requisite minimum number of participants are not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content.

A trade association/organization applicant must certify to the above for all of the companies it seeks to represent on the mission.

In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The following Selection Criteria will be used for each mission: Targeted mission participants are U.S. firms, services providers and trade associations/organizations providing or promoting U.S. products and services that have an interest in entering or expanding their business in the mission's destination country. The following criteria will be evaluated in selecting participants:

• Suitability of the applicant's (or in the case of a trade association/organization, represented firm or service provider's) products or services to these markets;

• The applicant's (or in the case of a trade association/organization, represented firm or service provider's) past, present, and prospective business activity in relation to the Mission's target market(s) and sector(s);

• The applicant's (or in the case of a trade association/organization, represented firm or service provider's) potential for business in the markets, including likelihood of exports resulting from the mission; and

• Consistency of the applicant's (or in the case of a trade association/organization, represented firm or service provider's) goals and objectives with the stated scope of the mission.

Referrals from a political party or partisan political group or any information, including on the application, containing references to political contributions or other partisan political activities will be excluded from the application and will not be considered during the selection process. The sender will be notified of these exclusions.

Trade Mission Participation Fees: If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such visas will be the responsibility of the mission participant. Government fees and processing expenses to obtain such visas are not included in the participation fee. However, the Department of Commerce will provide instructions to each participant on the procedures required to obtain business visas.

Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Definition of Small and Medium Sized Enterprise: For purposes of assessing participation fees, the Department of Commerce defines Small and Medium Sized Enterprises (SME) as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information)

Mission List: (additional information about each mission can be found at http://export.gov/trademissions).

Department of Commerce Wastewater Business Development Mission to China, June 11-17, 2017

Summary

The United States Department of Commerce, International Trade Administration (ITA), is organizing an Executive-led Wastewater Treatment Business Development Mission to China from June 11-17, 2017. This mission is a follow-up to an April 2015 Smart Cities—Smart Growth Business Development Mission to China led by Secretary Pritzker. This mission will promote U.S. exports to China by supporting U.S. companies in launching or increasing their business in the marketplace products and services relating to wastewater treatment, including industrial wastewater treatment. Key elements will include business-to-government and business-to-business meetings, market briefings, and networking events.

Trade mission delegates will participate in a five-day program, including roundtables and policy meetings with officials in China. In Beijing the mission will coincide with the China International Environmental Protection Exhibition and Conference (CIEPEC). CIEPEC is the Ministry of Environmental Protection's biennial sponsored trade show and conference. CIEPEC draws officials from all regional Environmental Protection Bureaus (EPBs) and municipalities, providing access to the tendering organizations that are developing water and wastewater treatment plant projects. Participants will have an opportunity to walk this trade show floor, as well as have a series of one-on-one meetings with pre-screened potential agents, distributors, and representatives at the show. In Nanjing and Guangzhou, participants will also have one-on-one meetings with pre-screened potential partners, as well as meet end users and government officials. In each city, the participants will also attend market briefings by U.S. Embassy officials and other industry experts, as well as networking events offering further opportunities to speak with local business and industry decision-makers.

Schedule

Beijing, China

June 12-13, 2017

• Business Development Mission Orientation

• Market Briefing by U.S. Embassy Officials

• Government Meetings

• Industry Briefings/Roundtable Discussions

• Individual Company Business Appointments

• Participation in China International Environmental Protection Exhibition and Conference (CIEPEC)

• Networking Reception

(All day group bus transportation included)

Nanjing, China

June 14-15, 2017

• Business matchmaking sessions

• Government meetings

• Evening travel to Dubai

(All day group bus transportation included)

Guangzhou, China

June 15-16, 2017

• Government Meetings

• Individual Company Business Appointments

• Networking Dinner or Reception

• Wrap-up Session

(All day group bus transportation included)

Traded Mission concludes

Participation Requirements

A minimum of 10 and a maximum of 12 firms, service providers, and/or trade associations/organizations will be selected to participate in the mission from the applicant pool. U.S. companies doing business in China, as well as U.S. companies seeking to enter the market for the first time may apply.

Fees and Expenses

After a company has been selected to participate on the mission, a payment to the Department of Commerce in the form of a participation fee is required. Upon notification of acceptance to participate, those selected have 10 business days to submit payment or the acceptance may be revoked. This fee will include entrance to the China International Environmental Protection Exhibition and Conference (CIEPEC) show and matchmaking in all three mission stops. The fee schedule for the mission is $7,000 for large firms and $6,600 for a small or medium-sized enterprises (SMEs). The fee for an additional firm representative (large firm or SME—limit one additional representative per company) is $500.

Timeline for Recruitment

The Department of Commerce will review applications and make selection decisions on a comparative basis until the maximum of 15 companies are selected. Recruitment for the trade mission will begin immediately and conclude no later than May 1, 2017. All applications must be submitted before May 1, 2017. The Department of Commerce will evaluate all applications and inform applicants of selection decisions as soon as possible after this application deadline. Applications received after May 1, will be considered only if space and scheduling constraints permit.

For Further Information Contact

Jay Biggs, Commercial Officer, U.S. Embassy Beijing, Jay.biggs@trade.gov, Office +86-10-8531-4325.

Pamela Kirkland, Project Officer, Trade Promotion Programs, Pamela.Kirkland@trade.gov, 202-482-3587.

Paint & Coatings Materials Suppliers Trade Mission to Mexico City, June 18-20, 2017

Summary

The U.S. Department of Commerce, International Trade Administration, is organizing the first trade mission for U.S. Paint and Coatings Materials Suppliers in conjunction with the ANAFAPYT (Mexican National Association of Manufacturers of Paints and Inks) trade show, “Latin Americas Coatings Show 2017,” to be held June 20-22, 2017. This show is the largest event in Latin America for raw materials suppliers and equipment manufacturers in the paint and coatings industry.

The purpose of the mission is to help participating firms gain market insight, make industry contacts, solidify business strategies, and advance specific projects with the goal of increasing their exports to and business in Mexico.

U.S. firms will participate in: (1) Customized Business-to-Business matchmaking appointments with pre-screened potential distributors and buyers; (2) networking events; (3) commercial briefings about doing business in Mexico; (4) a presentation about the industrial chemical and the automotive sectors in Mexico; (5) a mini trade fair; (6) the opportunity to visit the Latin Americas Coating Show 2017 and; (7) have limited marketing materials displayed in the U.S. Commercial Service booth at Latin American Coatings Show 2017.

Proposed Timetable

Sunday, June 18 |  | Arrival/Hotel check-in (no group transportation provided).
Monday, June 19 | 7:30 a.m | Shuttle to the U.S. Trade Center.
| 8:00-9:00 a.m | Embassy Commercial briefing (light breakfast included).
| 9:00 a.m | Depart for Business-to-Business Matchmaking appointments (up to four meetings) includes drivers and trade professionals. Lunch on your own depending on schedule.
| 7:00-9:00 p.m | Networking reception for mission members.
|  | Shuttle to return to the hotel.
Tuesday, June 20 | 7:45 a.m | Shuttle to the U.S. Trade Center.
| 8:30-10:00 a.m | Industry overview and presentations in the chemical and auto sectors.
| 10:00-11:30 a.m | Mini-trade fair with Mexican contacts from the chemical, automotive and paints industries.
| 11:30-12:30 p.m | Box lunch provided.
| 12:30-1:30 p.m | Shuttle to the ANAFAPYT LACS ribbon-cutting (1:30 p.m.).
| 2:00-7:00 p.m | ANAFAPYT LACS show (optional).
|  | Formal Trade Mission activities ends, participants can depart after the show or stay to walk it.
| 7:00 p.m | Shuttle departs for hotel.
Wednesday, June 21 | 11:00 a.m.-7:00 p.m | ANAFAPYT LACS show (optional).
Thursday, June 22 | 11:00 a.m.-6:00 p.m | ANAFAPYT LACS show (optional).
Friday, June 23 |  | Departure.

Participating firms who wish to exhibit at the show will receive a 20% discount on the cost of the booth. All arrangements related to participating in the trade show must be made through the show organizer and by registering online. For further information or questions about the show please contact Ms. Adriana Ortiz, Public Relations Manager at ANAFAPYT relacionespublicas@anafapyt.org.mx, Tel: + (52) 55-5682-7794 ext. 104.

Participants only wishing to visit the show will receive complimentary passes to be obtained by SCS Mexico.

Participation Requirements

A minimum of 7 and maximum of 11 firms, service providers, and/or trade associations will be selected to participate in the mission from the applicant pool.

Fees and Expenses

Participation fee for small or medium sized enterprises (SME): $ 1,900.

Participation fee for large firms or trade associations: $ 2,900.

Fee for each additional firm representative (large firm or SME/trade organization): $ 750.

Timeline for Recruitment and Applications

Recruitment for the mission will begin immediately and conclude no later than April 12, 2017. The Department of Commerce will evaluate applications and inform applicants of selection decisions three times during the recruitment period. All applications received subsequent to an evaluation date will be considered at the next evaluation. Deadlines for each round of evaluation are as follows:

• March 15, 2017

• April 12, 2017

Applications received after April 12, 2017 will be considered only if space and scheduling constraints permit.

Contacts

Mr. Dustin Ross, Project Officer, U.S. Department of Commerce, Washington, DC, Tel: 202-482-1108, dustin.ross@trade.gov.

Allison Mello, Commercial Officer, U.S. Department of Commerce, Chicago, Illinois, Tel: 312-353-8490, allison.mello@trade.gov.

Nathalie Scharf, Commercial Attaché, U.S. Embassy—Mexico City, U.S. Department of Commerce, Tel: +52-55-5080-2000 ext. 2191, nathalie.scharf@trade.gov.

Sylvia Montano, Commercial Specialist, Industrial Chemicals, U.S. Embassy—Mexico City, U.S. Department of Commerce, Tel: +52-55-5080-2000 ext. 5219, sylvia.montano@trade.gov.

U.S. Healthcare Trade Mission to Africa, October 22-27, 2017.

Summary

The United States Department of Commerce, International Trade Administration is organizing a U.S. Healthcare Trade Mission to South Africa and Kenya scheduled for October 22-27, 2017. Optional add-on post-mission stops will be available for selected mission participants that seem to appropriately fit market opportunities. These additional stops would include customized appointments with pre-screened potential foreign partners for an additional fee in: Ethiopia, Ghana, and Mozambique (space limited).

This Healthcare Trade Mission is intended to include representatives from various U.S. medical/healthcare industry manufacturers, service providers, associations and trade organizations. In addition to new-to-market companies, the mission also will assist U.S. companies already doing business in South Africa and Kenya to expand their footprint. Target sectors holding high potential for U.S companies include:

• Medical equipment/devices

• Laboratory equipment

• Dental equipment

• Emergency equipment

• Imaging and Diagnostic equipment

• Physiotheraphy and Orthopedic equipment/devices

• Healthcare information technology

• Products and technologies for other allied health sectors

The mission will include appointments and briefings in Johannesburg, Nairobi, and possibly other cities that are healthcare industry hubs.

The delegates will meet with experts to obtain firsthand information about the regulations, policies, standards, and procedures for importing medical devices into South Africa and Kenya. Participants will also visit healthcare facilities to get acquainted with specialized care facilities. Trade mission participants will have the opportunity to interact extensively with U.S. Embassy/Consulate Officials and Commercial Service healthcare specialists in South Africa and Kenya to discuss industry developments, opportunities, and sales strategies.

The U.S. Healthcare Trade Mission to South Africa and Kenya will draw on the resources of several U.S. government agencies and NGO's, including Centers for Disease Control and Prevention (CDC), U.S. Patent and Trademark Office, U.S. Trade Development Agency, U.S. Agency for International Development, and World Health Organization.

Schedule

Sunday, October 22, Johannesburg, South Africa | • Arrive Johannesburg and hotel check-in. • Welcome reception/ice breaker.
Monday, October 23, Johannesburg, South Africa | • Welcome and overview of Trade Mission. • Market briefings from the U.S. Commercial Service and industry experts.
| • One-on-one business meetings.
| • Networking reception in Johannesburg.
Tuesday, October 24, Johannesburg, South Africa, Pretoria, South Africa | • Hospital/Clinic tours and meetings. • One-on-one business meetings. • Government meetings. • Mission participant speaking opportunities.
Wednesday, October 25, Johannesburg, South Africa and Nairobi, Kenya | • Depart for Nairobi, Kenya (AM). • Market briefings from the U.S. Commercial Service and industry experts (PM). • Networking reception in Nairobi.
Thursday, October 26, Nairobi, Kenya | • One-on-one business meetings Nairobi. • Government meetings. • Some delegates depart for add-on stops.
Friday, October 27, Nairobi, Kenya and possible add-on Post stops | • Government meetings. • One-on-one business meetings. • Mission ends.
Saturday, October 28 & Sunday, October 29, Travel to optional stops over weekend | • Ethiopia, Ghana, or Mozambique (Optional add-on locations).
Monday, October 30 | • One-on-One Meetings at optional locations and networking opportunities.

Participation Requirements

A minimum of 12 and a maximum of 15 companies and/or trade associations/organizations will be selected from the applicant pool to participate in the trade mission.

Fees and Expenses

The participation fee for the U.S. Healthcare Trade Mission to South Africa and Kenya is $4,375 for small or medium-sized enterprises (SME) and $5,975 for large firms or trade associations. The fee for each additional representative (large firm or SME or trade association/organization) is $950.

The additional fee for the optional add-on stops to: Ethiopia (space is limited to 2 companies), Ghana (space is limited to 2 companies), and Mozambique (space is limited to 3 companies) for an additional fee of $1,000 for an SME and $1,325 for a large firm.

Delegation members may take advantage of U.S. Embassy rates for hotel rooms. Interpreter and driver services can be arranged for additional cost.

Timeframe for Recruitment and Application

Recruitment for the mission will begin immediately and conclude no later than June 30, 2017. All applications must be submitted before June 30, 2017. The Department of Commerce will evaluate all applications and inform applicants of selection decisions as soon as possible after this application deadline. A maximum of 15 participants will be selected. Applications received after June 30, 2017 will be considered only if space and scheduling constraints permit.

Contacts

Michelle Ouellette, Senior International Trade Specialist, U.S. Department of Commerce, Boston, MA, Tel: 617-565-4302, Email: Michelle.Ouellette@trade.gov.

Johannesburg, South Africa

Brian McCleary, Deputy Senior Commercial Officer, U.S. Commercial Service Johannesburg, South Africa, Tel: +27-11-290-3227, Email: Brian.McCleary@trade.gov.

Felicity Nagel, Commercial Specialist, U.S. Commercial Service Johannesburg, South Africa, Tel: +27-11-290-3332, Email: Felicity.Nagel@trade.gov.

Nairobi, Kenya

James Rigasso, Senior Commercial Officer, U.S. Commercial Service Nairobi, Kenya, Tel: +254-20-363-6424, Email: James.Rigasso@trade.gov.

Janet Mwangi, Commercial Specialist, U.S. Commercial Service Nairobi, Kenya, Tel: +254-20-363-6725, Email: Janet.Mwangi@trade.gov.

Cyber Security Trade Mission to Canada, September 11-14, 2017

Summary

The United States Department of Commerce, International Trade Administration (ITA), is organizing a Cyber Security Trade mission to three locations in Canada: Toronto, Ottawa and Montreal, September 11-14, 2017.

The purpose of the mission is to introduce U.S. firms to Canada's expanding opportunities within the cyber security industry, and to assist U.S. companies in pursuing export opportunities in this sector.

The mission is designed for all U.S. firms and organizations who play a part in the industry, regardless of specific niche. This mission will also help U.S. companies already doing business within the Canadian market to increase their footprint and deepen their business interests.

The mission will help participating firms gain market insights, make industry contacts, solidify business strategies, and advance specific projects, with the goal of creating and increasing U.S. product and services exports. The mission will include market briefings, one-on-one business appointments with pre-screened potential buyers, agents, distributors, industry leaders, and joint venture partners; meetings with national, provincial, regional and municipal governments; and networking events. Participating in an official U.S. industry delegation, rather than traveling on their own, will enhance attending companies' ability to identify opportunities and act on available opportunities in Canada.

Schedule

Monday—September 11 Toronto, Ontario | • Welcome and overview of Mission. • Market briefings from CS and industry experts.
| • Discussions with potential partners at on-site speed meetings or off-site one-on-ones.
Tuesday—September 12 Toronto, Ontario | • Site Visits, pre-scheduled by industrial focus. • Roundtable with government, CS and industry officials.
| • Afternoon travel to Ottawa.
Wednesday—September 13 Ottawa, Ontario | • Morning session on selling to the Government of Canada. • Afternoon roundtable with government, CS and industry officials..
| • Late Afternoon Networking Reception with government, industry and distributors.
| • Evening travel to Montreal.
Thursday—September 14 Montreal, Quebec | • Tabletop display at Montreal Security Tech Show. • Networking reception with targeted guest list from Montreal Security Tech Show and local cybersecurity contacts.

Participation Requirements

A minimum of 10 and maximum of 20 firms, service providers and/or trade associations/organizations will be selected from the applicant pool to participate in the trade mission.

Fees and Expenses

The participation fee for the trade mission to Canada is $3,200 for small or medium-sized enterprises (SME) and $3,600 for large firms and trade associations/organizations. The fee for each additional company representative (large firm or SME or trade association/organization) is $500.00. Interpreter and driver services can be arranged for additional cost. The participation fee will cover group transit from hotel to airport/train station on departure from each destination as well as local group transportation to meeting venues, where applicable. Delegation members will be able to take advantage of U.S. Embassy rates for hotel rooms.

Timeframe for Recruitment and Application

Recruitment for this mission will begin immediately and conclude no later than June 30, 2017. All applications must be submitted before June 30, 2017. The Department of Commerce will evaluate all applications and inform applicants of selection decisions as soon as possible after this application deadline. Applications received after June 30, 2017 will be considered only if space and scheduling constraints permit.

Contacts

Gemal Brangman, Project Officer, Trade Promotion Programs, Tel: 202-482-3773, Gemal.Brangman@trade.gov.

Tracey Ford, Commercial Specialist, CS Canada Lead, Tel: 1 613-688-5406, Tracey.Ford@trade.gov.

Stefan Popescu, Commercial Specialist, CS Toronto, Tel: 1 416-595-5412 x223, Stefan.Popescu@trade.gov.

Connie Irrera, Commercial Specialist, CS Montreal,Tel: 1 514-908-3662, Connie.Irrera@trade.gov.

Pompeya Lambrecht, Northern Virginia U.S. Export Assistance Center, Tel: 703-235-0102, Pompeya.Lambrecht@trade.gov.

Smart Cities Trade Mission to Poland and the Czech Republic, September 10-15, 2017

Summary

The U.S. Department of Commerce, International Trade Administration, U.S. and Foreign Commercial Service (CS) is organizing a “Smart Cities” Business Development Mission to Poland and the Czech Republic from September 10-15. This mission is designed to help export ready U.S. companies launch or increase their export business in promising sectors in Poland and the Czech Republic that contribute to the development of smart cities, including e-mobility, energy efficiency and management, e-governance, and environmental management and quality, including air and water quality.

Mission participants will benefit from expert briefings on the policy frameworks in Europe supporting smart cities and the particulars of smart cities developments in Poland and the Czech Republic. The mission will include opportunities to meet key Government officials and decision-makers in both countries, one-on-one meetings with potential business partners and networking events. The government and private sector in Poland and the Czech Republic are investing billions in projects conducive to the development of smart cities.

Through this mission, U.S. companies will gain an understanding of and position themselves for success in the smart cities markets in Poland and the Czech Republic.

Schedule

Sunday, September 10 | Trade Mission Participants Arrive in Warsaw. Country briefing and welcome event.
Monday, September 11 | Meetings with Polish Government officials and industry experts.
| One-on-One business matchmaking appointments.
| Networking Reception at Ambassador's residence.
Tuesday, September 12 | Morning Site Visit. Depart for Krakow mid—to -late morning.
| Arrive Krakow between 12:00 p.m. and 2:00 p.m. Evening Reception at U.S. Consul General's Residence.
Wednesday, September 13 | Briefings/Presentations/Meetings with key local government officials/decision makers. One-on-one matchmaking meetings.
Thursday, September 14 | Travel to Prague.
| Country briefing and welcome event.
| Meetings with key Czech Government officials and industry experts.
Friday, September 15 | One-on-one matchmaking meetings.
| Evening VIP reception at Ambassador's residence.
Saturday, September 16 | Trade Mission Participants Depart.

Participation Requirements

A minimum of 10 and maximum of 15 firms and/or trade associations will be selected to participate in the mission from the applicant pool.

Fees and Expenses

The participation fee for the Business Development Mission will be $2,500.00 for small or medium-sized enterprises (SME); and $3,750 for large firms or trade associations. The fee for each additional firm representative (large firm or SME/trade organization) is $1,000. Interpreter and driver services can be arranged for additional cost. Delegation members will be able to take advantage of U.S. Embassy rates for hotel rooms.

Timeline for Recruitment and Applications

Recruitment for the mission will begin immediately and conclude no later than June 1, 2017. All applications must be submitted before June 1, 2017. The Department of Commerce will evaluate all applications and inform applicants of selection decisions as soon as possible after this application deadline. Applications received after June 1, 2017, will be considered only if space and scheduling constraints permit.

Contacts

Gemal Brangman, Project Officer, U.S. Department of Commerce, Washington, DC, Tel: 202-482-3773, Fax: 202-482-9000, Gemal.Brangman@trade.gov.

Kenneth Duckworth, Commercial Attaché, U.S. Embassy—Warsaw, Poland, U.S. Department of Commerce, Tel: +48-22-625-4374, Kenneth.Duckworth@trade.gov.

Anna Janczewska, Commercial Specialist, U.S. Embassy—Warsaw, Poland, U.S. Department of Commerce, Tel: +48-22-625-4274 Anna.Janczewska@trade.gov.

Helen Peterson, Senior Commercial Officer, U.S. Embassy—Prague, Czech Republic, U.S. Department of Commerce, Tel: +420-257-022-434, ext. 2436, Helen.Peterson@trade.gov.

Luda Taylor, Commercial Specialist, U.S. Embassy—Prague, Czech Republic, Tel: +420-257-022-424, ext. 2315, Luda.Taylor@trade.gov.

Sustainable Building & Construction Trade Mission to Mexico City (Optional Stop in Guadalajara), October 9-13, 2017

Summary

The United States Department of Commerce, International Trade Administration (ITA), is organizing a Sustainable Construction Trade Mission to Mexico from October 9-13, 2017. The purpose of the mission is to introduce U.S. firms to Mexico's Sustainable Building & Construction sector, and to assist U.S. companies in pursuing export opportunities in this sector. The mission also will help U.S. companies already doing business in Mexico increase their footprint and deepen their business interests. By focusing on infrastructure-related projects, this mission advances ITA's work to increase U.S. company participation in infrastructure and strategically position our clients to tap medium and long-term opportunities.

This trade mission is open to all qualified companies in the sector. Under ITA's Veterans Go Global initiative, it also includes a focus on U.S. veteran-owned companies who play a significant role in sustainable building and construction.

Schedule

Tuesday, October 10, 2017

Briefing by U.S. Embassy Mexico officials

B2B matchmaking meetings with Mexican companies at Expo CIHAC

No-host lunch

B2B matchmaking meetings with Mexican companies at Expo CIHAC

Optional no-host dinner

Wednesday, October 11, 2017

Hotel check out (if departing for Guadalajara)

Attend Expo CIHAC

Depart for Guadalajara

(Optional Stop Guadalajara)

Thursday, October 12, 2017

Briefing by U.S. Guadalajara Consulate officials

B2B matchmaking meetings

Optional no-host dinner

Friday, October 13, 2017

Return to United States

Participation Requirements

A maximum of 20 firms and a minimum of 10 firms, service providers and/or trade associations/organizations will be selected from the applicant pool to participate in the trade mission in Mexico City. For the optional Guadalajara portion, a maximum of 10 firms will be selected.

Fees and Expenses

For Mexico City only, the fee for a small & medium sized enterprise is $1400 and the fee for a large firm and a trade association is $1800. The cost for an additional representative is $400. For Mexico City and Guadalajara, the fee for a small and medium-sized company is $2750 and the fee for a large firm and a trade association is $3550. The cost for an additional representative is $700.

Application Deadline. Recruitment for this mission will begin immediately and conclude no later than August 23, 2017. The Department of Commerce will evaluate applications and inform applicants of selection decisions on a rolling basis until the maximum number of participants has been selected.

Contact Information

Oscar Magaña, International Trade Specialist, San Antonio U.S. Export Assistance Center, Phone: 210-472-4020, Mobile: 210-419-3043, Fax: 210-472-4019, Oscar.Magana@trade.gov.

Warren Anderson, St Louis U.S. Export Assistance Center, Phone: 314-260-3785, Mobile: 314-502-3263, Email: warren.anderson@trade.gov.

Jeffrey Odum, Project Officer, Trade Promotion Programs, Phone: (202) 482-6397, Email: Jeffrey.Odum@trade.gov.

Mr. Adrián Orta, Commercial Specialist, U.S. Embassy, Mexico, Phone: +52(55) 5080-2000 ext. 5220, Mobile: +52(55) 4450-0469, Email: Adrian.Orta@trade.gov.

Mr. Paul Oliva, Commercial Attaché, U.S. Embassy, Mexico, Phone: +52(55) 5080-2206, Mobile: +52(55) 4450-0462, Email: Paul.Oliva@trade.gov.

Ms. Patricia Reinosa Muñoz, Commercial Specialist, U.S. Consulate Guadalajara, Phone: +52(33) 3615-1140 ext. 102, Mobile: +52(33) 1603-4848, Email: Patricia.Reinosa@trade.gov.

Trade Mission to Romania, Bulgaria, Croatia, Serbia and Greece in Conjunction With Trade Winds—Southeastern Europe Business Forum, October 16-24, 2017

Summary

The United States Department of Commerce, International Trade Administration is organizing a trade mission to Romania, Bulgaria, Croatia, Serbia and Greece that will include the Trade Winds—Southeastern Europe business forum in Bucharest, Romania on October 18-20, 2017. U.S. trade mission members will participate in the Trade Winds—Southeastern Europe business forum in Bucharest, Romania, which is also open to U.S. companies not participating in the trade mission. Trade mission participants may choose to participate in their choice of trade mission stops based on recommendations from the USFCS, including in Romania, Bulgaria, Croatia, Serbia and Greece. Each trade mission stop will include one-on-one business appointments with pre-screened potential buyers, agents, distributors or joint-venture partners. Trade mission participants in the Trade Winds—Southeastern Europe business forum may attend regional and industry-specific sessions and consultations with USFCS Senior Commercial Officers and other government officials representing the Europe region during the business forum in Bucharest, Romania on October 18-20, 2017.

This mission is open to U.S. companies and trade associations from a cross-section of industries with growth potential in Romania, Bulgaria, Croatia, Serbia and Greece, including, but not limited to the following industries: Agricultural technology, machinery and equipment; energy, power generation, environmental technologies; information and communications technology and equipment; healthcare, medical products, pharmaceuticals; infrastructure; and safety and security products and services.

Schedule

Sunday, October 15 | Trade Mission Participants Arrive in Belgrade, Serbia or Sofia, Bulgaria (if electing to participate in one of these mission stops).
Monday, October 16 | Belgrade, Serbia or Sofia, Bulgaria (choice of one mission stop), Business to Business meetings and networking with government and business officials.
Tuesday, October 17 | Arrive in Bucharest, Romania.
Wednesday-Friday, October 18-20 | Bucharest, Romania: Trade Winds Business Forum and SCO Consultations Market Briefings, Business to Business meetings, Consultations with U.S. government trade representatives and networking with U.S. and foreign government and business officials.
Saturday-Sunday, October 21-22 | Travel to Zagreb, Croatia or Athens, Greece (if electing to participate in one of these mission stops).
Monday, October 23 | Zagreb, Croatia or Athens, Greece (choice of one mission stop) Business to Business meetings and networking with government and business officials.
Tuesday, October 24 | Trade Mission Participants Depart.

Participation Requirements

All parties interested in participating in the trade mission to Romania, Bulgaria, Croatia, Serbia and Greece must complete and submit an application package for consideration by the Department of Commerce. All applicants will be evaluated on their ability to meet certain conditions and best satisfy the selection criteria as outlined below.

A minimum of 40 companies and/or trade associations will be selected to participate in the mission from the applicant pool on a first-come, first-served basis. Mission stop participation will be limited as follows: The Serbia mission stop is limited to 20 companies; the Bulgaria mission stop is limited to 20 companies; the Croatia mission stop is limited to 15 companies; the Greece mission stop is limited to 20 companies; and the Romania mission stop is limited to 40 companies.

Additional delegates may be accepted based on available space. U.S. companies and/or trade associations already doing business in or seeking business in Romania, Bulgaria, Croatia, Serbia and Greece for the first time may apply.

Fees and Expenses

After a company has been selected to participate in the mission, a payment to the Department of Commerce in the form of a participation fee is required.

• For one mission stop, the participation fee will be $1,950 for a small or medium-sized enterprise (SME) and $3,300 for large firms.

• For two mission stops, the participation fee will be $2,950 for a small or medium-sized enterprise (SME) and $4300 for large firms.

• For three mission stops, the participation fee will be $3,950 for a small or medium-sized enterprise (SME) and $5300 for large firms.

An additional representative for both SMEs and large firms will require an additional fee of $500.

The above trade mission fees include the $650 fee for full participation in the Trade Winds business forum to be held in Bucharest, Romania on October 18-20, 2017.

Timeline for Recruitment and Applications

Recruitment for the mission will begin immediately and conclude no later than August 18, 2017. The U.S. Department of Commerce will review applications and make selection decisions on a rolling basis beginning 14 days after publication of this Federal Register notice, until the maximum number of participants for each mission stop is selected. After August 18, 2017, applications will be considered only if space and scheduling constraints permit.

Contact

Leslie Drake, Director, U.S. Export Assistance Center—Charleston, WV, Leslie.Drake@trade.gov, Tel: 304-347-5123.

Diego Gattesco, Director, U.S. Export Assistance Center—Wheeling, WV, Diego.Gattesco@trade.gov, Tel: 304-243-5493.

Greg O'Connor, Regional Senior Commercial Officer, U.S. Commercial Service Romania, Email: Greg.O'Connor@trade.gov.

Renewable Energy Integration Trade Mission to Canada, October 30-November 2, 2017

Mission Description

The United States Department of Commerce International Trade Administration (ITA) is proposing a Renewable Energy Integration Trade Mission to Toronto and Calgary October 30-November 2, 2017.

The purpose of the mission is to introduce U.S. firms to Canada's rapidly expanding interest and projects-base towards the effective application of renewable energy and smart grid solutions into the electrical grid, and to assist U.S. companies in pursuing export opportunities while making the most appropriate and impactful contacts within this sector.

The mission is designed for U.S. industry with a focus on utility-scale and distributed energy resources (DER) renewable energy power generators and services providers. This mission will further support U.S. companies who are active in the Canadian market with a focus on increasing footprints and deepening business interests, especially for those companies of all sizes who are part of the industry's global supply chain. The mission is open to all U.S. firms and organizations in the renewable energy sector focused on solar, wind, and hydropower as well as the smart grid (transmission, distribution, and storage) technologies that will enable effective grid integration.

The mission will help participants gain market insights, make industry contacts, solidify business strategies, and advance specific projects, with the goal of increasing U.S. product and services exports. The mission will include market briefings, one-on-one business appointments with pre-screened potential buyers, agents, distributors, industry leaders, and joint venture partners; meetings with state and local government officials; and networking events. Participating in an official U.S. industry delegation, rather than traveling on their own, will enhance the companies' ability to identify opportunities and act on available opportunities in Canada.

Schedule

Sunday—October 29, Toronto, Ontario | • Participants arrive in Toronto by 4:00 p.m. • Welcome social event at venue hotel.
Monday—October 30, Toronto | • Welcome and overview of Mission from U.S. Consulate staff. • Country briefing by consulate officials on Canada's renewable energy sector and business opportunities.
| • Market briefings from Foreign Commercial Service, renewable energy stakeholders, and government officials.
| • Business to business meetings with potential partners at central venue.
| • Evening reception hosted by U.S. Consulate including mission sponsors, with key stakeholders, government officials, and prospective business partners.
Tuesday—October 31, Toronto | • Meetings with federal, provincial and/or local government officials at central venue. • Site visit and Lunch with host company/sponsor and leading industry trade associations.
| • Afternoon travel to Calgary.
Wednesday—November 1, Calgary, Alberta | • Welcome and overview of Mission from U.S. Consulate staff. • Briefing on Prairie Provinces renewable energy sector by consulate officials and business opportunities.
| • Market briefings from Foreign Commercial Service, renewable energy stakeholders, and government officials.
| • Business to business meetings with potential partners at central venue.
| • Evening event hosted by U.S. Consulate including mission sponsors, with key stakeholders, chamber and trade associations, government officials, and prospective business partners.
Thursday—November 2, Calgary | • Meetings with federal, provincial and regional government officials at central venue. • Site visit and Lunch with host company/sponsor and leading industry trade associations.
| • Afternoon wrap-up; mission ends.

Participation Requirements

A minimum of 10 and maximum of 20 firms, service providers and/or trade associations/organizations will be selected from the applicant pool to participate in the trade mission.

Fees and Expenses

The participation fee for the trade mission to Canada, including 2 stops (Toronto and Calgary) will be $3,500 for small or medium-sized enterprises (SME) and $6,000 for large firms and trade associations/organizations. The fee for each additional company representative (large firm or SME or trade association/organization) is $1,000. A maximum of 2 representatives per company will be able to participate in the Mission.

Timeframe for Recruitment and Application

Recruitment for this mission will begin immediately and conclude no later than July 28, 2017. The Department of Commerce will evaluate applications and inform applicants of selection decisions on a rolling basis until the maximum of 20 applicants are selected. Applications received after July 28, 2017, will be considered only if space and scheduling constraints permit.

Contacts

Stefan Popescu, Senior Advisor—Sector, Lead Renewable Energy, U.S. Consulate General Toronto, Tel: +1 (416) 595-5412 x 223, Email: Stefan.Popescu@trade.gov.

Tom Hanson, Principal Commercial Officer, Western Canada, U.S. Consulate General Calgary, Tel: +1 (403) 265-2116, Email: Thomas.hanson@trade.gov.

Ethel M. Azueta Glen, International Trade Specialist, International Trade Administration—Trade Promotion Programs, Tel: +1 (202) 482-5388, Email: ethel.glen@trade.gov.

Frank Spector,
Senior Advisor for Trade Missions.

[FR Doc. 2017-03722 Filed 2-24-17; 8:45 am]

BILLING CODE 3510-DR-P